SMALL BUSINESS ADMINISTRATION

[Disaster Declaration #15466 and #15467; NEW YORK Disaster Number NY-00182]

Administrative Declaration of a Disaster for the State of NEW YORK

AGENCY: U.S. Small Business Administration.

ACTION: Notice.

SUMMARY: This is a notice of an Administrative declaration of a disaster for the State of New York dated 03/27/2018.

Incident: Flooding.

Incident Period: 01/15/2018 through 01/16/2018.

DATES: Issued on 03/27/2018.

Physical Loan Application Deadline Date: 05/29/2018.

Economic Injury (EIDL) Loan Application Deadline Date: 12/27/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Clinton

Contiguous Counties:

New York: Essex, Franklin

Vermont: Chittenden, Grand Isle

The Interest Rates are:

| Percent
For Physical Damage:
Homeowners with Credit Available Elsewhere | 3.500
Homeowners without Credit Available Elsewhere | 1.750
Businesses with Credit Available Elsewhere | 6.770
Businesses without Credit Available Elsewhere | 3.385
Non-Profit Organizations with Credit Available Elsewhere | 2.500
Non-Profit Organizations without Credit Available Elsewhere | 2.500
For Economic Injury:
Businesses & Small Agricultural Cooperatives without Credit Available Elsewhere | 3.385
Non-Profit Organizations without Credit Available Elsewhere | 2.500

The number assigned to this disaster for physical damage is 15466 6 and for economic injury is 15467 0.

The States which received an EIDL Declaration # are New York, Vermont.

(Catalog of Federal Domestic Assistance Number 59008)

Linda E. McMahon,
Administrator.

[FR Doc. 2018-06678 Filed 4-2-18; 8:45 am]

BILLING CODE 8025-01-P